DEPARTMENT OF THE INTERIOR

National Park Service

[NPS-WASO-ADIR-PMSP-NPS0027718; PPWOIRADA1, PPMPSAS1Y.TY0000 (199); OMB Control Number 1024-0280]

Agency Information Collection Activities; Certification of Identity and Consent Form

AGENCY: National Park Service, Interior.

ACTION: Notice of information collection; request for comment.

SUMMARY: In accordance with the Paperwork Reduction Act of 1995, we, the National Park Service (NPS) are proposing to renew an information collection.

DATES: Interested persons are invited to submit comments on or before December 3, 2019.

ADDRESSES: Send your comments on this information collection request (ICR) by mail to Phadrea Ponds, Acting NPS Information Collection Clearance Officer, 1201 Oakridge Drive, Fort Collins, CO 80525; or by email at phadrea_ponds@nps.gov; or by telephone at 970-267-7231. Please reference OMB Control Number 1024-0280 in the subject line of your comments.

FOR FURTHER INFORMATION CONTACT: To request additional information about this ICR by mail, contact Charis Wilson, NPS Freedom of Information Act (FOIA) Officer, 12795 W Alameda Parkway, P.O. Box 25287, Denver, CO 80225-0287; or by email at charis_wilson@nps.gov; or by telephone at 303-969-2959. Please reference OMB Control Number 1024-0280 in the subject line of your comments.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the NPS; (2) will this information be processed and used in a timely manner; (3) is the estimate of burden accurate; (4) how might the NPS enhance the quality, utility, and clarity of the information to be collected; and (5) how might the NPS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Under the Freedom of Information Act (FOIA), 5 U.S.C. 552, individuals may submit requests for full or partial disclosure of previously unreleased information and documents controlled by the NPS. To certify the identity of the requester, as required by 5 U.S.C. Section 552a (2006 & Supp. IV 2010), the NPS uses the Certification of Identity and Consent Form 10-945. In accordance with the Privacy Act (5 U.S.C. 552a(b)), the NPS maintains law enforcement incident reports in the Department of the Interior's Incident and Management Reporting System (IMARS), which is a Privacy Act System of Records (DOI-10).

The purpose of the collection is to request the extension of the currently approved Certification of Identity and Consent Form (10-945) that enables the NPS to collect information needed to respond to requests made under the FOIA and the Privacy Act of 1974. The form provides information needed to locate applicable incident reports associated with the request. Information includes sufficient personally identifiable information and/or source documents as applicable. Failure to provide the required information may result in the NPS inability to take action on requests.

The NPS uses Form 10-945, “Certification of Identity and Consent” to collect information needed to identify records unique to the requestor. The form collects the following information to verify the identity of the requester:

• Full name of requester;

• Case Number;

• Social Security Number;

• Current address;

• Date of birth; and

• Place of birth.

Title of Collection: Certification of Identity and Consent Form.

OMB Control Number: 1024-0280.

Form Number: NPS Form 10-945.

Type of Review: Extension of a currently approved collection.

Description of Respondents: Individuals requesting copies of law enforcement case incident reports maintained within the Department of Interior's Incident Management and Reporting System (IMARS).

Total Estimated Number of Annual Respondents: 2,000.

Total Estimated Number of Annual Responses: 2,000.

Estimated Completion Time per Response: 3 minutes.

Total Estimated Number of Annual Burden Hours: 100.

Respondent's Obligation: Required to obtain or retain a benefit.

Frequency of Collection: On occasion.

Total Estimated Annual Nonhour Burden Cost: None.

An agency may not conduct or sponsor and a person is not required to respond to a collection of information unless it displays a currently valid OMB control number.

The authority for this action is the Paperwork Reduction Act of 1995 (44 U.S.C. 3501 et seq.).

Phadrea Ponds,
Acting Information Collection Clearance Officer, National Park Service.

[FR Doc. 2019-21682 Filed 10-3-19; 8:45 am]

BILLING CODE 4312-52-P